DEPARTMENT OF THE TREASURY

Office of Foreign Assets Control

Unblocking of Specially Designated Nationals and Blocked Persons Pursuant to Executive Order 12978

AGENCY: Office of Foreign Assets Control, Treasury.

ACTION: Notice.

SUMMARY: The Department of the Treasury's Office of Foreign Assets Control (“OFAC”) is publishing the names of 14 individuals whose property and interests in property have been unblocked pursuant to Executive Order 12978 of October 21, 1995, “Blocking Assets and Prohibiting Transactions With Significant Narcotics Traffickers”.

DATES: The unblocking and removal from the list of Specially Designated Nationals and Blocked Persons (“SDN List”) of the 14 individuals identified in this notice whose property and interests in property were blocked pursuant to Executive Order 12978 of October 21, 1995, is effective on April 30, 2013.

FOR FURTHER INFORMATION CONTACT: Assistant Director, Sanctions Compliance & Evaluation, Department of the Treasury, Office of Foreign Assets Control, Washington, DC 20220, Tel: (202) 622-2490.

SUPPLEMENTARY INFORMATION:

Electronic and Facsimile Availability

This document and additional information concerning OFAC are available from OFAC's Web site (www.treasury.gov/ofac) or via facsimile through a 24-hour fax-on demand service at (202) 622-0077.

Background

On October 21, 1995, the President, invoking the authority, inter alia, of the International Emergency Economic Powers Act (50 U.S.C. 1701-1706) (“IEEPA”), issued Executive Order 12978 (60 FR 54579, October 24, 1995) (the “Order”). In the Order, the President declared a national emergency to deal with the threat posed by significant foreign narcotics traffickers centered in Colombia and the harm that they cause in the United States and abroad.

Section 1 of the Order blocks, with certain exceptions, all property and interests in property that are in the United States, or that hereafter come within the United States or that are or hereafter come within the possession or control of United States persons, of: (1) The foreign persons listed in an Annex to the Order; (2) any foreign person determined by the Secretary of Treasury, in consultation with the Attorney General and the Secretary of State: (a) To play a significant role in international narcotics trafficking centered in Colombia; or (b) to materially assist in, or provide financial or technological support for or goods or services in support of, the narcotics trafficking activities of persons designated in or pursuant to the Order; and (3) persons determined by the Secretary of the Treasury, in consultation with the Attorney General and the Secretary of State, to be owned or controlled by, or to act for or on behalf of, persons designated pursuant to the Order.

On April 30, 2013, the Director of OFAC removed from the SDN List the 14 individuals listed below, whose property and interests in property were blocked pursuant to the Order:

1. ARBOLEDA ARROYAVE, Pedro Nicholas (a.k.a. ARBOLEDA ARROYAVE, Pedro Nicolas), c/o DEPOSITO POPULAR DE DROGAS S.A., Cali, Colombia; c/o DISTRIBUIDORA DE DROGAS CONDOR LTDA., Bogota, Colombia; c/o D'CACHE S.A., Cali, Colombia; c/o CREDIREBAJA S.A., Cali, Colombia; c/o FUNDASER, Cali, Colombia; DOB 23 Jun 1957; Cedula No. 16602372 (Colombia) (individual) [SDNT].

2. CELIS PEREZ, Alexander, c/o DROCARD S.A., Bogota, Colombia; DOB 16 Feb 1973; Cedula No. 79620931 (Colombia) (individual) [SDNT].

3. CUECA VILLARAGA, Hernan, c/o DROGAS LA REBAJA BOGOTA S.A., Bogota, Colombia; Cedula No. 11352426 (Colombia) (individual) [SDNT].

4. DUQUE MARTINEZ, Diego Fernando, c/o GENERICOS ESPECIALES S.A., Bogota, Colombia; DOB 31 Jan 1972; Cedula No. 8191760 (Colombia); Passport 8191760 (Colombia) (individual) [SDNT].

5. DUQUE MARTINEZ, Maria Consuelo (a.k.a. DUQUE DE GIRALDO, Maria Consuelo), c/o LABORATORIOS KRESSFOR DE COLOMBIA S.A., Bogota, Colombia; c/o FARMACOOP, Bogota, Colombia; DOB 19 May 1955; Cedula No. 41716296 (Colombia) (individual) [SDNT].

6. FERNANDEZ LUNA, Tiberio, c/o DISTRIBUIDORA DE DROGAS CONDOR S.A., Bogota, Colombia; c/o COPSERVIR LTDA., Bogota, Colombia; c/o LABORATORIOS BLANCO PHARMA DE COLOMBIA S.A., Bogota, Colombia; DOB 03 Nov 1960; Cedula No. 93286690 (Colombia); Passport AE956843 (Colombia) (individual) [SDNT].

7. GAMEZ CIFUENTES, Norma Lucero, c/o DROCARD S.A., Bogota, Colombia; DOB 22 Jan 1958; Cedula No. 41674484 (Colombia); Passport 41674484 (Colombia) (individual) [SDNT].

8. LEAL FLOREZ, Luis Alejandro, c/o DISTRIBUIDORA DE DROGAS CONDOR S.A., Bogota, Colombia; c/o COINTERCOS S.A., Bogota, Colombia; c/o FIDUSER LTDA., Bogota, Colombia; COSMEPOP, Bogota, Colombia; LATINA DE COSMETICOS Y DISTRIBUCIONES S.A., Bogota, Colombia; DOB 12 Sep 1961; Cedula No. 7217432 (Colombia); Passport 7217432 (Colombia) (individual) [SDNT].

9. NAIZAQUE PUENTES, Jose de Jesus, c/o COINTERCOS S.A., Bogota, Colombia; c/o LABORATORIOS BLAIMAR DE COLOMBIA S.A., Bogota, Colombia; c/o COSMEPOP, Bogota, Colombia; Calle 58A S 80C-31, Bogota, Colombia; DOB 12 Mar 1956; Cedula No. 19348370 (Colombia) (individual) [SDNT].

10. PACHECO, Rosa Elena, c/o LEMOFAR LTDA., Bogota, Colombia; DOB 02 Jan 1958; Cedula No. 36162233 (Colombia); Passport 36162233 (Colombia) (individual) [SDNT].

11. PEREZ GOMEZ, Stella, c/o ASESORIAS ECONOMICAS MUNOZ SANTACOLOMA E.U., Cali, Colombia; c/o CONTACTEL COMUNICACIONES S.A., Cali, Colombia; c/o DISTRIBUIDORA SANAR DE COLOMBIA S.A., Cali, Colombia; c/o COPSERVIR LTDA., Bogota, Colombia; c/o PROVIDA E.U., Cali, Colombia; DOB 26 Jun 1960; Cedula No. 31848468 (Colombia); Passport 31848468 (Colombia) (individual) [SDNT].

12. RAMIREZ SUAREZ, Luis Carlos (a.k.a. RAMIREZ SUARES, Luis Carlos), c/o DROGAS LA REBAJA BUCARAMANGA S.A., Bucaramanga, Colombia; c/o COPSERVIR LTDA., Bogota, Colombia; DOB 15 May 1952; Cedula No. 19164938 (Colombia) (individual) [SDNT].

13. RUEDA FAJARDO, Herberth Gonzalo, c/o FARMACOOP, Bogota, Colombia; c/o LABORATORIOS GENERICOS VETERINARIOS, Bogota, Colombia; c/o LABORATORIOS KRESSFOR DE COLOMBIA S.A., Bogota, Colombia; DOB 06 Oct 1964; Cedula No. 12126395 (Colombia) (individual) [SDNT].

14. VEGA, Rosalba, c/o BONOMERCAD S.A., Bogota, Colombia; c/o PATENTES MARCAS Y REGISTROS S.A., Bogota, Colombia; c/o SHARPER S.A., Bogota, Colombia; c/o GLAJAN S.A., Bogota, Colombia; c/o DECAFARMA S.A., Bogota, Colombia; c/o GENERICOS ESPECIALES S.A., Bogota, Colombia; DOB 22 Sep 1955; Cedula No. 21132758 (Colombia); Passport 21132758 (Colombia) (individual) [SDNT].

Dated: April 30, 2013.
Adam J. Szubin,
Director, Office of Foreign Assets Control.

[FR Doc. 2013-11539 Filed 5-14-13; 8:45 am]

BILLING CODE 4811-AL-P